DEPARTMENT OF HEALTH AND HUMAN SERVICES

Centers for Disease Control and Prevention

[30 DAY-28-00]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7090. Send written comments to CDC, Desk Officer; Human Resources and Housing Branch, New Executive Office Building, Room 10235; Washington, DC 20503. Written comments should be received within 30 days of this notice.

Proposed Projects

1. Chronic Fatigue Syndrome (CFS) Surveillance and Related Studies, Prevalence and Incidence of Fatiguing Illnesses in Sedgwick County, Kansas (0920-0401)—Extension—The Centers for Disease Control and Prevention (CDC) A Population-Based CFS Study was done previously in Kansas in 1997. Data from this cross-sectional, random-digit-dial survey of prolonged fatiguing illness in Wichita, Kansas will be added to the data previously obtained during the past 24 months from this population.

The proposed study continues the Sedgwick County study using identical methodology and data collection instruments. Beginning with a random-digit-dial telephone survey to identify previously identified fatigued and non-fatigued individuals, followed by a detailed telephone interview to obtain additional data on participants' health status during the last 12-month period. Study objectives remain to refine estimates of CFS in Wichita, identify similarities and differences among fatigued and non-fatigued subjects and to describe the clinical course of fatiguing illness in the population. Total annual hours burden are 2,066.

Form name | No. of respondents | No. of responses/respondent | Avg. burden/response (in hrs.)
Telephone Questionnaire | 4,500 | 1 | 20/60
Self-Administered Questionnaire—Initially Fatigued Adult | 75 | 1 | 20/60
Self-Administered Questionnaire—Follow-up Fatigued Adult | 147 | 1 | 20/60
Self-Administered Questionnaire—Non Fatigued Adult | 93 | 1 | 30/60
Self-Administered Questionnaire—Initially Fatigued Adolescent | 2 | 1 | 30/60
Self-Administered Questionnaire—Parent of Initially Fatigued Adolescent | 2 | 1 | 30/60
Self-Administered Questionnaire—Follow-up Fatigued Adolescent | 2 | 1 | 30/60
Self-Administered Questionnaire—Parent of Follow-up Fatigued Adolescent | 2 | 1 | 30/60
Self-Administered Questionnaire—Non-Fatigued Adolescent | 1 | 1 | 30/60
Self-Administered Questionnaire—Parent of Non-Fatigued Adolescent | 1 | 1 | 30/60
Symptom Questionnaire—Initially Fatigued Adult | 75 | 1 | 10/60
Symptom Questionnaire—Follow-up Fatigued Adult | 147 | 1 | 10/60
Symptom Questionnaire—Initially Fatigued Adolescent and Parent of Fatigued Adolescent | 4 | 1 | 10/60
Symptom Questionnaire—Follow-up Fatigued Adolescent and Parent of Fatigued Adolescent | 4 | 1 | 10/60
Course of Fatiguing Illness Questionnaire | 208 | 1 | 4/60
Diagnostic Interview Schedule—Adults Questionnaire | 315 | 1 | 45/60
Diagnostic Interview Schedule—Parent Version | 5 | 1 | 45/60
Diagnostic Interview Schedule—Child Version | 5 | 1 | 45/60
Sleep Disorders Questionnaire—Fatigued Adults | 222 | 1 | 7/60
Fatigue Questionnaire—Adults and Adolescents | 226 | 1 | 15/60
Fatigue Questionnaire—Parent of Adolescent | 4 | 1 | 15/60
SF-36 Questionnaire | 320 | 1 | 11/60

Dated: April 26, 2000.
Charles W. Gollmar,
Acting Associate Director for Policy, Planning, and Evaluation, Centers for Disease Control and Prevention (CDC).

[FR Doc. 00-10980 Filed 5-2-00; 8:45 am]

BILLING CODE 4163-18-P